NATIONAL AERONAUTICS AND SPACE ADMINISTRATION

[Notice 00-07]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing:

NASA Case No. MSC 22724-2/3/4/5: Endothelium Preserving Microwave Treatment for Atherosclerosis;

NASA Case No. MSC 22743-2/3: Moving Object Control System;

NASA Case No. MSC 22931-1: Androgynous, Reconfigurable Closed Loop Feedback Controlled Low Impact Docking System with Load Sensing Electromagnetic Capture Ring;

NASA Case No. MSC 22953-1: Method and Apparatus for Reducing the Vulnerability of Latches to Single Event Upsets;

NASA Case No. MSC 22980-1: Bubble Measuring Instrument and Method;

NASA Case No. MSC 23026-1: Manually Operated Welding Wire Feeder;

NASA Case No. MSC 23049-1: Microwave Treatment System for Prostate Cancer and Hyperplasia;

NASA Case No. MSC 23076-1: Portable Hyperbaric Chamber;

NASA Case No. MSC 23089-1: Improved Circularly Polarized Microstrip Antenna;

DATES: August 24, 2000.

FOR FURTHER INFORMATION CONTACT: Edward Fein, Patent Counsel, Johnson Space Center, Mail Code HA, Houston, Texas, 77058-3696; Tel. (281) 483-4871; Fax (281) 244-8452.

Dated: August 16, 2000.
Edward A. Frankle,
General Counsel.

[FR Doc. 00-21581 Filed 8-23-00; 8:45 am]

BILLING CODE 7510-01-P